DEPARTMENT OF ENERGY

Federal Energy Regulatory Commission

[Project No. 14513-000]

Idaho Irrigation District; New Sweden Irrigation District; Notice of Preliminary Permit Application Accepted for Filing and Soliciting Comments, Motions To Intervene, and Competing Applications

On April 19, 2013, the Idaho and New Sweden Irrigation Districts, filed a joint application for a preliminary permit, pursuant to section 4(f) of the Federal Power Act (FPA), proposing to study the feasibility of the County Line Road Hydroelectric Project (County Line Road Project or project) to be located on the Snake River near Idaho Falls, in Jefferson and Bonneville counties, Idaho. The sole purpose of a preliminary permit, if issued, is to grant the permit holder priority to file a license application during the permit term. A preliminary permit does not authorize the permit holder to perform any land-disturbing activities or otherwise enter upon lands or waters owned by others without the owners' express permission.

The proposed project would consist of two developments, the Idaho Canal and the Great Western Canal. Both developments would utilize an existing 840-foot-long, 10-foot-high concrete overflow weir impounding a reservoir with a surface area of 30 acres and a storage capacity of 250-acre-feet at a maximum surface elevation of 4,765 feet mean sea level. The two developments would also include the following new facilities:

Idaho Canal Development

(1) A 70-foot-wide concrete diversion structure with seven, 8-foot-wide, 5-foot-high steel head gates to divert water from the Snake River; (2) a 3.1-mile-long, 65 to 75-foot-wide, 8 to 10-foot-deep canal extending between the head gates and the powerhouse; (3) a gate structure in the canal to divert flows to the powerhouse while maintaining irrigation flows; (4) a powerhouse containing a 1.2-megawatt (MW) Kaplan turbine; (5) a tailrace canal; (6) a gated overflow spillway to pass flows around the powerhouse; (7) a 2,500-foot-long, 12.5-kilovolt (kV) transmission line extending to a distribution line owned by Rocky Mountain Power; (8) a switchyard; and (9) appurtenant facilities.

Great Western Canal Development

(1) An 80-foot-wide-concrete diversion structure with four, 13-foot-wide, 5-foot-high steel radial head gates to divert water from the Snake River; (2) a 3.5-mile-long, 50 to 100-foot-wide, 8 to 10-foot-deep canal extending between the head gates and the powerhouse; (3) a gate structure in the canal to divert flows to the powerhouse while maintaining irrigation flows; (4) a powerhouse containing a 1.3-MW Kaplan turbine; (5) a tailrace canal; (6) a gated overflow spillway to pass flows around the powerhouse; (7) a 500-foot-long, 12.5-kV transmission line extending to a distribution line owned by Rocky Mountain Power; (8) a switchyard; and (9) appurtenant facilities.

The estimated annual generation of the County Line Road Project would be 18.3 gigawatt-hours. The project would be partially located on 0.5 acres of federal lands managed by the Bureau of Land Management.

Applicant Contact: Mr. Alan Kelsch, Chairman, Idaho Irrigation District, 496 E. 14th Street, Idaho Falls, Idaho 83404; phone: (208) 522-2356.

Mr. Louis Thiel, Chairman, New Sweden Irrigation District, 2350 W. 17th Street, Idaho Falls, Idaho 83402; phone: (208) 523-0175.

FERC Contact: John Matkowski; phone: (202) 502-8576.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14513) in the docket number field to access the document. For assistance, contact FERC Online Support.

Dated: June 17, 2013.
Kimberly D. Bose,
Secretary.

[FR Doc. 2013-14888 Filed 6-20-13; 8:45 am]

BILLING CODE 6717-01-P